OFFICE OF PERSONNEL MANAGEMENT

Submission for Review: OPM Healthcare and Insurance Customer Experience Feedback

AGENCY: Office of Personnel Management.

ACTION: 30-Day notice and request for comments.

SUMMARY: The Office of Personnel Management (OPM) offers the general public and other Federal agencies the opportunity to comment on the following proposed generic information collection (ICR): 3206-NEW, Customer Experience Feedback. As required by the Paperwork Reduction Act of 1995, as amended by the Clinger-Cohen Act, OPM is soliciting comments for this collection

DATES: Comments are encouraged and will be accepted until July 17, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: OPM/Healthcare and Insurance, Office of Personnel Management, 1900 E Street NW, Washington, DC 20415, Attention: M. Fatima Moghis or email to fatima.moghis@opm.gov or by phone at 202-606-4694.

SUPPLEMENTARY INFORMATION: The 60-day notice for this information collection was published in the Federal Register on September 13, 2022, at 87 FR 56094. There were three comments received during the 60-day comment period, but none pertained to the ICR. The purpose of this notice is to allow an additional 30 days for public comments. The Office of Management and Budget is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: U.S. Office of Personnel Management.

Authority: 5 U.S.C. chapter 89.

Title: OPM Healthcare and Insurance Customer Experience Feedback.

OMB Number: 3206-New.

Frequency: On occasion.

Affected Public: Government employees and individuals.

Number of Respondents: 1,503,900.

Estimated Time per Respondent: 3-60 minutes.

Total Burden Hours: 311,100 hours.

U.S. Office of Personnel Management.
Kayyonne Marston,
Federal Register Liaison.

[FR Doc. 2023-12811 Filed 6-14-23; 8:45 am]

BILLING CODE 6325-64-P